DEPARTMENT OF THE INTERIOR

Fish and Wildlife Service

Notice of Receipt of Applications for Permit

Endangered Species

The following applicants have applied for a permit to conduct certain activities with endangered species. This notice is provided pursuant to Section 10(c) of the Endangered Species Act of 1973, as amended (16 U.S.C. 1531, et seq.):

Applicant: Dr. Cynthia Lagueux, The Wildlife Conservation Society, Gainsville, FL, PRT—781606.

The applicant requests a permit to import blood and tissue samples taken from Leatherback sea turtles, Dermochelys coriacea), and Hawksbill sea turtles, (Eretmochelys imbricata), in Nicaraugua for enhancement of the species through scientific research. This notification covers activities conducted by the applicant over a five year period.

Applicant: USGS/National Wildlife Health Center, Madison, WI. PRT—016660. The applicant requests an amendment to their initial request published October 14, 1999, in Vol. 64, No. 198. to export yolk samples from infertile eggs of captive-born Puerto Rican parrots (Amazona Vittata) to the Scottish Agricultural College, Scotland, United Kingdom. The applicant would like to amend the permit to include egg yolk samples taken from other captive born sources and from the nest of Puerto Rican parrots found in the wild.

Applicant: James D. Stewart, Bedford, TX, PRT—033659.

The applicant requests a permit to import the sport-hunted trophy of one male bontebok (Damaliscus pygargus dorcas) culled from a captive herd maintained under the management program of the Republic of South Africa, for the purpose of enhancement of the survival of the species.

Applicant: Betty J. Young dba Riverglen Tiger Refuge, Mountainburg, AR, PRT—824228.

The applicant requests a re-issuance of the permit to re-export and re-import captive-born tigers (Panthera tigris) and progeny of the animals currently held by the applicant and any animals acquired in the United States by the applicant to/from worldwide locations to enhance the survival of the species through conservation education. This notification covers activities conducted by the applicant over a three year period.

Written data or comments should be submitted to the Director, U.S. Fish and Wildlife Service, Division of Management Authority, 4401 North Fairfax Drive, Room 700, Arlington, Virginia 22203 and must be received by the Director within 30 days of the date of this publication.

Documents and other information submitted with these applications are available for review, subject to the requirements of the Privacy Act and Freedom of Information Act, by any party who submits a written request for a copy of such documents to the following office within 30 days of the date of publication of this notice. U.S. Fish and Wildlife Service, Office of Management Authority, 4401 North Fairfax Drive, Room 700, Arlington, Virginia 22203. Phone: (703/358-2104); FAX: (703/358-2281).

Dated: September 22, 2000.
Charlie Chandler,
Chief, Branch of Permits, Division of Management Authority.

[FR Doc. 00-24913 Filed 9-27-00; 8:45 am]

BILLING CODE 4310-55-U